DEPARTMENT OF THE TREASURY

Internal Revenue Service

26 CFR Part 1

[REG-209135-88] and [REG-142299-01]

RIN 1545-BA36 and 1545-AW92

Certain Transfers of Property to Regulated Investment Companies and Real Estate Investment Trusts; Hearing Cancellation

AGENCY: Internal Revenue Service (IRS), Treasury.

ACTION: Cancellation of notice of public hearing on proposed rulemaking.

SUMMARY: This document provides notice of cancellation of a public hearing on proposed regulations relating to certain transfers or events that result in a Regulated Investment Company (RIC) or Real Estate Investment Trust (REIT) owning property that has a basis determined by reference to a C corporation's basis in the property.

DATES: The public hearing originally scheduled for Wednesday, May 1, 2002, at 10 a.m is cancelled.

FOR FURTHER INFORMATION CONTACT: Donna Poindexter of the Regulations Unit, Associate Chief Counsel (Income Tax and Accounting), (202) 622-7180 (not a toll-free number).

SUPPLEMENTARY INFORMATION: A notice of public hearing that appeared in the Federal Register on Monday, January 14, 2002 (67 FR 1672), announced that a public hearing was scheduled for May 1, 2002, at 10 a.m., in the Auditorium, Internal Revenue Service Building, 1111 Constitution Avenue, NW, Washington, DC. The subject of the public hearing is proposed regulations under sections 337(d) of the Internal Revenue Code. The public comment period for these proposed regulations expired on April 10, 2002.

The notice of proposed rulemaking and notice of public hearing instructed those interested in testifying at the public hearing to submit a request to speak and an outline of the topics to be addressed as of April 10, 2002; no one has requested to speak. Therefore, the public hearing scheduled for May 1, 2002, is cancelled.

LaNita Van Dyke,
Acting Chief, Regulations Unit, Associate Chief Counsel (Income Tax and Accounting).

[FR Doc. 02-10617 Filed 4-29-02; 8:45 am]

BILLING CODE 4830-01-P